DEPARTMENT OF AGRICULTURE

Forest Service

California Coast Provincial Advisory Committee (PAC)

AGENCY: Forest Service, USDA.

ACTION: Notice of Meeting.

SUMMARY: The California Coast Provincial Advisory Committee (PAC) will meet on February 2 and 3, 2000, at the Six Rivers National Forest Supervisor's Office in Eureka, California. The meeting will be held from 8:30 a.m. to 5:00 p.m. both days. The Forest Supervisor's Office is located at 1330 Bayshore Way in Eureka. Agenda items to be covered include: (1) Survey and Manage Draft Supplemental Environmental Impact Statement Presentation and Work on the Ground Subcommittee Recommendations; (2) Regional Ecosystem Office (REO) update; (3) Aquatic Conservation Subcommittee recommendations; (4) Megan Fire update; (5) Presentation on EPA's Draft Clean Water Action Plan; (6) Presentation on Natural Resources Conservation Service Erosion Control Plans; (7) Northern spotted owl baseline study final results and recommendations; and (8) Open public comment. All California Coast Provincial Advisory Committee meetings are open to the public. Interested citizens are encouraged to attend.

FOR FURTHER INFORMATION CONTACT: Direct questions regarding this meeting to Daniel Chisholm, Forest Supervisor, or Phebe Brown, Province Coordinator, USDA, Mendocino National Forest, 825 N. Humboldt Avenue, Willows, CA 95988, (530) 934-3316.

Dated: January 10, 2000.
Daniel K. Chisholm,
Forest Supervisor.

[FR Doc. 00-996 Filed 1-14-00; 8:45 am]

BILLING CODE 3410-11-M